DEPARTMENT OF JUSTICE

Drug Enforcement Administration

[Docket No. DEA-392]

Importer of Controlled Substances Application: VHG Labs DBA LGC Standards

ACTION: Notice of application.

DATES: Registered bulk manufacturers of the affected basic classes, and applicants therefore, may file written comments on or objections to the issuance of the proposed registration on or before July 24, 2019. Such persons may also file a written request for a hearing on the application on or before July 24, 2019.

ADDRESSES: Written comments should be sent to: Drug Enforcement Administration, Attention: DEA Federal Register Representative/DPW, 8701 Morrissette Drive, Springfield, Virginia 22152.

SUPPLEMENTARY INFORMATION: In accordance with 21 CFR 1301.34(a), this is notice that on March 6, 2019, VHG Labs DBA LGC Standards, 3 Perimeter Road, Manchester, New Hampshire 03103 applied to be registered as an importer of the following basic classes of controlled substances:

Controlled substance | Drug code | Schedule
Cathinone | 1235 | I
Methcathinone | 1237 | I
Naphyrone | 1258 | I
N-Ethylamphetamine | 1475 | I
JWH-250 (1-Pentyl-3-(2-methoxyphenylacetyl)indole) | 6250 | I
SR-18 (Also known as RCS-8) (1-Cyclohexylethyl-3-(2-methoxyphenylacetyl)indole) | 7008 | I
APINACA and AKB48 N-(1-Adamantyl)-1-pentyl-1H-indazole-3-carboxamide | 7048 | I
JWH-081 (1-Pentyl-3-(1-(4-methoxynaphthoyl)indole) | 7081 | I
SR-19 (Also known as RCS-4) (1-Pentyl-3-[(4-methoxy)-benzoyl]indole | 7104 | I
JWH-018 (also known as AM678) (1-Pentyl-3-(1-naphthoyl)indole) | 7118 | I
JWH-122 (1-Pentyl-3-(4-methyl-1-naphthoyl)indole) | 7122 | I
UR-144 (1-Pentyl-1H-indol-3-yl)(2,2,3,3-tetramethylcyclopropyl)methanone | 7144 | I
JWH-203 (1-Pentyl-3-(2-chlorophenylacetyl)indole) | 7203 | I
Ibogaine | 7260 | I
Lysergic acid diethylamide | 7315 | I
Marihuana | 7360 | I
Mescaline | 7381 | I
3,4-Methylenedioxymethamphetamine | 7405 | I
5-Methoxy-N-N-dimethyltryptamine | 7431 | I
Psilocyn | 7438 | I
4-Methyl-alphapyrrolidinopropiophenone (4-MePPP) | 7498 | I
Methylone (3,4-Methylenedioxy-N-methylcathinone) | 7540 | I
Butylone | 7541 | I
Pentylone | 7542 | I
Codeine-N-oxide | 9053 | I
Desomorphine | 9055 | I
Dihydromorphine | 9145 | I
Heroin | 9200 | I
Morphine-N-oxide | 9307 | I
Normorphine | 9313 | I
Tilidine | 9750 | I
Alpha-methylfentanyl | 9814 | I
Methamphetamine | 1105 | II
Phenmetrazine | 1631 | II
Amobarbital | 2125 | II
Pentobarbital | 2270 | II
Secobarbital | 2315 | II
Glutethimide | 2550 | II
Phencyclidine | 7471 | II
Phenylacetone | 8501 | II
Dihydrocodeine | 9120 | II
Diphenoxylate | 9170 | II
Ecgonine | 9180 | II
Ethylmorphine | 9190 | II
Levorphanol | 9220 | II
Meperidine | 9230 | II
Meperidine intermediate-B | 9233 | II
Meperidine intermediate-C | 9234 | II
Dextropropoxyphene, bulk (non-dosage forms) | 9273 | II
14-Hydroxmorphone | 9665 | II
Noroxymorphone | 9668 | II
Sufentanil | 9740 | II

The company plans to import analytical reference standards for distribution to its customers for research and analytical purposes. Placement of these drug codes onto the company's registration does not translate into automatic approval of subsequent permit applications to import controlled substances. Approval of permit applications will occur only when the registrant's business activity is consistent with what is authorized under 21 U.S.C. 952(a)(2). Authorization will not extend to the import of FDA approved or non- approved finished dosage forms for commercial sale.

Dated: June 6, 2019.
John J. Martin,
Assistant Administrator.

[FR Doc. 2019-13377 Filed 6-21-19; 8:45 am]

BILLING CODE 4410-09-P